DEPARTMENT OF HEALTH AND HUMAN SERVICES

Food and Drug Administration

21 CFR Part 173

[Docket No. FDA-2008-F-0462]

Zentox Corporation; Withdrawal of Food Additive Petition

AGENCY: Food and Drug Administration, HHS.

ACTION: Notice of withdrawal.

SUMMARY: The Food and Drug Administration (FDA or we) is announcing the withdrawal, without prejudice to a future filing, of a food additive petition (FAP 8A4775) proposing that the food additive regulations be amended to provide for the safe use of monochloramine as an antimicrobial agent in poultry process chiller water.

FOR FURTHER INFORMATION CONTACT: Judith Kidwell, Center for Food Safety and Applied Nutrition (HFS-265), Food and Drug Administration, 5100 Paint Branch Pkwy., College Park, MD 20740-3835, 240-402-1071.

DATES: May 14, 2013.

SUPPLEMENTARY INFORMATION: In a notice published in the Federal Register of September 3, 2008 (73 FR 51490), we announced that Zentox Corp., c/o Burdock Group, 801 North Orange Ave., suite 710, Orlando, FL 32801, had filed a food additive petition (FAP 8A4775). The petition proposed to amend the food additive regulations in part 173—Secondary Direct Food Additives Permitted in Food for Human Consumption (21 CFR part 173) to provide for the safe use of monochloramine as an antimicrobial agent in poultry process chiller water. Zentox Corp. has now withdrawn the petition without prejudice to a future filing (21 CFR 171.7).

Dated: May 9, 2013.
Dennis M. Keefe,
Director, Office of Food Additive Safety, Center for Food Safety and Applied Nutrition.

[FR Doc. 2013-11499 Filed 5-13-13; 8:45 am]

BILLING CODE 4160-01-P